DEPARTMENT OF STATE

[Public Notice: 7425]

30-Day Notice of Proposed Information Collection: Form- DS-1950, Department of State Application for Employment, OMB Control Number 1405-0139

ACTION: Notice of request for public comment and submission to OMB of proposed collection of information.

SUMMARY: The Department of State has submitted the following information collection request to the Office of Management and Budget (OMB) for approval in accordance with the Paperwork Reduction Act of 1995.

• Title of Information Collection: Department of State Application for Employment.

• OMB Control Number: 1405-0139.

• Type of Request: Extension of a currently approved collection.

• Originating Office: Bureau of Human Resources, Office of Recruitment, Examination, Employment (HR/REE)

• Form Number: DS-1950.

• Respondents: U.S. Citizens seeking entry into certain Department of State Foreign Service positions.

• Estimated Number of Respondents: 3,000.

• Estimated Number of Responses: 3,000.

• Average Hours per Response: 30 minutes.

• Total Estimated Burden: 1,500.

• Frequency: On Occasion.

• Obligation to Respond: Required to Obtain a Benefit.

DATES: Submit comments to the Office of Management and Budget (OMB) for up to 30 days from April 25, 2011.

ADDRESSES: Direct comments to the Department of State Desk Officer in the Office of Information and Regulatory Affairs at the Office of Management and Budget (OMB). You may submit comments by the following methods:

• E-mail: oira_submission@omb.eop.gov. You must include the DS form number, information collection title, and OMB control number in the subject line of your message.

• Fax: 202-395-5806. Attention: Desk Officer for Department of State.

FOR FURTHER INFORMATION CONTACT: You may obtain copies of the proposed information collection and supporting documents from Marvin E. Moore, Bureau of Human Resources, Recruitment Division, Student Programs, U.S. Department of State, Washington, DC 20522, who may be reached on 202-261-8885 or by e-mail at MooreME1@state.gov.

SUPPLEMENTARY INFORMATION: We are soliciting public comments to permit the Department to:

• Evaluate whether the proposed information collection is necessary to properly perform our functions.

• Evaluate the accuracy of our estimate of the burden of the proposed collection, including the validity of the methodology and assumptions used.

• Enhance the quality, utility, and clarity of the information to be collected.

• Minimize the reporting burden on those who are to respond,

Abstract of proposed collection:

The DS-1950 has been the form used by individuals to apply for certain excepted jobs at the Department of State such as Foreign Service specialist positions. We wish to continue to use this form to clarify interpretation of applicant responses and how applicants become aware of our program opportunities.

Methodology:

The form will be used by applicants for excepted service jobs at the Department of State, such as certain Foreign Service jobs. These programs generate approximately 3,000 applications per year, submitted by mail. Data, which is extracted from the form, is necessary to determine qualifications, and selections, in accordance with Federal policies.

Dated: April 5, 2011.
Ruben Torres,
Director, HR/EX, Department of State.

[FR Doc. 2011-9952 Filed 4-22-11; 8:45 am]

BILLING CODE 4710-15-P